DEPARTMENT OF ENERGY

[GDO Docket No. EA-470-A]

Application for Renewal of Authorization To Export Electric Energy; EDECSAMEX, S.A. de C.V.

AGENCY: Grid Deployment Office, Department of Energy.

ACTION: Notice of application.

SUMMARY: EDECSAMEX, Sociedad Anónima de Capital Variable (the Applicant or EDECSAMEX) has applied for renewed authorization to transmit electric energy from the United States to Mexico pursuant to the Federal Power Act.

DATES: Comments, protests, or motions to intervene must be submitted on or before July 25, 2024.

ADDRESSES: Comments, protests, motions to intervene, or requests for more information should be addressed by electronic mail to Electricity.Exports@hq.doe.gov.

FOR FURTHER INFORMATION CONTACT: Janessa Zucchetto, (240) 474-8226, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export. (16 U.S.C. 824a(e)). On April 10, 2023, the authority to issue such orders was delegated to the DOE's Grid Deployment Office (GDO) by Delegation Order No. S1-DEL-S3-2023 and Redelegation Order No. S3-DEL-GD1-2023.

On July 18, 2019, DOE issued Order No. EA-470 authorizing EDECSAMEX to export electricity from the United States to Mexico as a power marketer for a five-year term. On April 30, 2024, EDECSAMEX filed an application (Application or App.) with DOE for renewal of their export authority for a five-year term. App. at 1.

According to the Application, EDECSAMEX is incorporated under the laws of Mexico with its principal place of business in Mexico City, Mexico. Id. The Applicant is authorized by Centro Nacional de Control de Energía, Mexico's national grid operator, to transact as a wholesale power marketer in Mexico and import and export electricity with the United States. Id. at 2. The Applicant represents that “neither EDECSAMEX nor any of its owners hold a franchised electric power service area nor have a native load obligation” and that it plans to source excess power supply from ERCOT, CAISO, and potentially other markets bordering Mexico. See id. at 3. EDECSAMEX asserts its commercial plan will not affect reliability or the sufficiency of the electric supply within the U.S. Id. The Applicant also represents its exports “will not impede or tend to impede the coordination in the public interest of facilities subject to the jurisdiction of the Federal Energy Regulatory Commission[.]” Id. at 1.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of FERC's Rules of Practice and Procedure (18 CFR 385.211). Any person desiring to become a party to this proceeding should file a motion to intervene at Electricity.Exports@hq.doe.gov in accordance with FERC Rule 214 (18 CFR 385.214).

Comments and other filings concerning EDECSAMEX's Application should be clearly marked with GDO Docket No. EA-470-A. Additional copies are to be provided directly to Vahid Sadeghpour, Sole Administrator, EDECSAMEX, S.A. de C.V., 2615 Centenary Street, Houston, TX 77005, vsadeghpour@grupoedecsa.com, and Gregory Arroyo, Jr., Counsel for EDECSAMEX, S.A. de C.V., 124 Palm Blvd., Missouri City, TX 77459, garroyo@grupoedecsa.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on June 17, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 20, 2024.
Treena V. Garrett,
Federal Register Liaison Officer, U.S. Department of Energy.

[FR Doc. 2024-13875 Filed 6-24-24; 8:45 am]

BILLING CODE 6450-01-P